DEPARTMENT OF VETERANS AFFAIRS

Advisory Committee on Tribal and Indian Affairs, Notice of Meeting

The Department of Veterans Affairs (VA) gives notice under the Federal Advisory Committee Act, 5 U.S.C. App. 2., that the Advisory Committee on Tribal and Indian Affairs will virtually meet on January 25, 26, and 27, 2022 via our using Zoom platform. The meeting session will begin and end as follows:

Date | Time
January 25, 2022 | 1:00 p.m.-5:00 p.m. Eastern Standard Time (EST).
January 26, 2022 | 1:00 p.m.-5:00 p.m. EST.
January 27, 2022 | 1:00 p.m.-5:00 p.m. EST.

These meeting sessions are open to the public. To access the meetings, please use the following registration link: https://www.zoomgov.com/meeting/register/vJItcO2hpzMsG9dbmWEES3Gw8mE2rJMry8U. Participants need to register for the meeting then will receive a link to access it each day.

The purpose of the Committee is to advise the Secretary on all matters relating to Indian Tribes, tribal organizations, Native Hawaiian organizations, and Native American Veterans. This includes advising the Secretary on the administration of healthcare services and benefits to American Indians and Alaska Native Veterans; thereby assessing those needs and whether VA is meeting them. The Advisory Committee on Tribal and Indian Affairs is a newly formed FACA Committee. The Committee provides advice and guidance to the Secretary of Veterans Affairs on all matters relating to Indian tribes, tribal organizations, Native Hawaiian organizations, and Native American Veterans.

On January 25, 2022, the agenda will include opening remarks and VA welcoming remarks by Secretary of Veterans Affairs; Committee member introductions; briefing by VA Advisory Committee Management Office; remarks and briefing updates by other VA officials. On January 26, 2022, the Committee will receive briefing updates from VA officials on rural health; community care; COVID-19 efforts; tribal HUD/VASH, homeless; Indian Health Service and Urban Indian Health; and the Vet Center program. On January 27, 2022, the Committee will receive briefing updates from the Veterans Benefits Administration; Native American Journey Map; National Cemetery Administration, Office of General Counsel-Tribal Veteran Representative Experience Project; and Smithsonian Native American Veterans Memorial. The Committee will receive public comment from those public members who have provided a written summary. The Committee will hold open discussion on topics relevant to the Committee and address follow-up and action items including dates for next meeting.

Individuals who speak are invited to submit a 1-2 page summary of their comments no later than January 14, 2022 for inclusion in the office meeting record. Members of the public may also submit written statements for the Committee's review to Mr. David Clay Ward, at David.Ward@va.gov. Any member of the public seeking additional information should contact Mr. David Clay Ward at 202-461-7445.

Dated: December 16, 2021.
Jelessa M. Burney,
Federal Advisory Committee Management Officer.

[FR Doc. 2021-27640 Filed 12-21-21; 8:45 am]

BILLING CODE P